DEPARTMENT OF COMMERCE

National Oceanic and Atmospheric Administration

RIN 0648-XF860

Marine Mammals; Issuance of Permits

AGENCY: National Marine Fisheries Service (NMFS), National Oceanic and Atmospheric Administration (NOAA), Commerce.

ACTION: Notice; issuance of permits.

SUMMARY: Notice is hereby given that individuals and institutions have been issued Letters of Confirmation for activities conducted under the General Authorization for Scientific Research on marine mammals. See SUPPLEMENTARY INFORMATION for a list of names and address of recipients.

ADDRESSES: The Letters of Confirmation and related documents are available for review upon written request or by appointment in the following office:

Permits and Conservation Division, Office of Protected Resources, NMFS, 1315 East-West Highway, Room 13705, Silver Spring, MD 20910; phone (301) 427-8401; fax (301) 713-0376.

FOR FURTHER INFORMATION CONTACT: Office of Protected Resources, Permits and Conservation Division, (301) 427-8401.

SUPPLEMENTARY INFORMATION: The requested Letters of Confirmation have been issued under the authority of the Marine Mammal Protection Act of 1972, as amended (16 U.S.C. 1361 et seq.), and the regulations governing the taking and importing of marine mammals (50 CFR part 216). The General Authorization allows for bona fide scientific research that may result only in taking by Level B harassment of marine mammals. The following Letters of Confirmation (LOC) were issued in Fiscal Years 2016 and 2017.

File No. 19826: Issued to Tara Moll, Naval Undersea Warfare Center, Division Newport, 1176, Howell St., Newport, RI, 02841 on January 28, 2016 to conduct ground surveys, photo-identification, and behavioral observations of gray (Halichoerus grypus grypus), harbor (Phoca vitulina), and harp (Phoca groenlandica) seals in the lower Chesapeake Bay, VA, and Narragansett Bay, RI. The purpose of the research is to investigate site fidelity and movement among haul-out locations, and to improve baseline knowledge of pinniped occurrence in areas adjacent to Navy training and testing areas. The LOC expires January 31, 2021.

File No. 19749: Issued to Clearwater Marine Aquarium, 249 Windward Passage, Clearwater, FL 33767 on February 17, 2016 to conduct vessel surveys, close approach, photo-identification, behavioral observations, and focal follows of bottlenose dolphins (Tursiops truncatus). Research would primarily occur in coastal waters from Redington Long Pier (Pinellas County) and north to Levy County, FL and expand offshore to 20m isobaths. The purpose of the research is to determine home ranges, distribution, population abundance, site fidelity, and reproductive success, in the estuarine and coastal waters of west central Florida. The effects of human interactions in this area will also be considered. The LOC expires March 1, 2021.

File No. 19686: Issued to Jennifer Lewis, Ph.D., Florida International University 11200 SW 8th Street Miami, FL 33199 on March 11, 2016 to conduct vessel surveys, close approach, photo-identification, behavioral observations, and focal follows of bottlenose dolphins. Research would primarily occur in Florida Keys National Marine Sanctuary as well as the southern Florida Keys. The purpose of the research is to determine home ranges, distribution, population abundance, site fidelity, and reproductive success, in the estuarine and coastal waters of southern Florida. The effects of human interactions in this area will also be considered. The LOC expires March 15, 2021.

File No. 20066: Issued to Eric Montie, Ph.D., University of South Carolina Beaufort, One University Boulevard, Bluffton, SC 29909 on March 29, 2016 to conduct vessel surveys for passive acoustic recordings, close approach, photo-identification, and behavioral observations of bottlenose dolphins. Research would primarily occur in the coastal waters of Bluffton and Hilton Head, SC. The purpose of the research is to better understand (1) the acoustic ecology of bottlenose dolphins and their prey, and (2) how anthropogenic noise may impact the acoustic signals of fish and bottlenose dolphins. The LOC expires March 31, 2021.

File No. 19903: Issued to Andrew Read, Ph.D., Duke University Marine Laboratory, 135 Duke Marine Lab Road, Beaufort, NC 28516-9721 on April 27, 2016 to conduct cetacean photo-identification surveys, behavioral follows, and audio recordings in the waters off Jacksonville, FL; Cape Hatteras, NC; and Norfolk, VA. Twenty-one species of cetaceans would be studied. The objectives of the research are to study factors influencing habitat use, ranging patterns, behavioral variation and population structure of the above mentioned species. The LOC expires April 30, 2021.

File No. 20412: Issued to Shoals Marine Lab, 113 Morse Hall, 8 College Road, Durham, NH 03824 on April 28, 2016, to conduct vessel surveys, photo-identification, and behavioral observations and monitoring of harbor, harp (Pagophilus groenlandica), hooded (Cystophora cristata), and gray seals in Maine and New Hampshire. The purpose of this research is to monitor density and distribution; identify and re-sight unique individuals; document use of the area by mother-pup pairs; visually assess health of individuals; and monitor the effects of human disturbance (boating, fishing, entanglement) on pinnipeds.

File No. 19540: Issued to Shannon Gowans, Ph.D., Galbraith Marine Science Laboratory, Eckerd College, 4200 54th Ave. South, St. Petersburg, FL 33711 on May 26, 2016, to conduct vessel surveys for close-approach, photo-identification, behavioral observations, underwater photo/videography, focal follows, and passive acoustic recordings of bottlenose, Atlantic spotted (Stenella frontalis), and rough-toothed (Steno bredanensis) dolphins within Tampa Bay and adjacent Gulf of Mexico waters. The purpose of the research is to continue long-term monitoring including population size and trends, spatial and temporal distribution of individual dolphins, and social structure. The LOC expires May 31, 2021.

File No. 16299-01: Issued to Ann Weaver, Ph.D., School of Psychology and Behavioral Sciences, Argosy University, 5250 17th Street, Sarasota, FL 34235 on June 10, 2016, extended the expiration date of the LOC for one year. The LOC authorizes vessel surveys, photo-identification and behavioral observations of bottlenose dolphins near John's Pass on the west coast of Florida. The objective is to study the before, during, and after effects of bridge construction on the abundance, distribution, and behavior of dolphins. This LOC was subsequently terminated on August 26, 2016, when a new LOC (File No. 20346) was issued to Dr. Weaver.

File No. 15621-01: Issued to Peggy Stap, Marine Life Studies, P.O. Box 884, Monterey, CA 93942 on June 15, 2016, extended the expiration date of the LOC for one year. The LOC authorizes for photo-identification, passive acoustic recordings, behavioral observations, underwater photography and video, and harassment of marine mammals during vessel surveys in the Monterey Bay National Marine Sanctuary. The objectives are to: (1) Study the foraging strategies of killer whales (Orcinus orca) (transient and offshore) within the sanctuary and (2) investigate the abundance, distribution, movement, and frequency of occurrence of cetaceans in the sanctuary, specifically the interaction of mixed species groups. The new expiration date is June 15, 2017.

File No. 20386: Issued to Golden Gate Cetacean Research, 9 Edgemar Way, Corte Madera, CA 94925 on July 28, 2016 to conduct vessel surveys for close-approach, photo-identification, and behavioral observations of harbor porpoise (Phocoena phocoena) and bottlenose dolphin in Monterey Bay through northern California waters, including San Francisco Bay, and Kachemak Bay, AK. The purpose of the research is to collect photographic and observational data on the distribution and occurrence of harbor porpoise in San Francisco Bay and to track the movements of California coastal bottlenose dolphins to the northern limits of their range, as well as conduct a comparative stud with harbor porpoises in Kachemak Bay, AK. The LOC expires July 31, 2021.

File No. 20169: Issued to Maddalena Bearzi, Ocean Conservation Society P.O. Box 12860, Marina Del Rey, CA 90295 on August 9, 2016 to conduct vessel surveys for close approach, photo-identification, and behavioral observations of 18 non-listed cetacean and pinniped species and stocks. Research would occur within coastal and offshore waters of Southern California. The purpose of the research is to continue the long-term study on the ecology and aggregations of, and disease occurrence in, marine mammals in the area. The LOC expires August 15, 2021.

File No. 19289: Issued to Mari Smultea, Smultea Environmental Sciences, P.O. Box 256, Preston, WA 98050 on August 16, 2016 to conduct aerial line-transect surveys, photography, and behavioral observations of 20 cetacean species and five pinniped species. Aerial surveys may occur in the U.S. Navy's Southern California Range Complex off San Diego, CA, and near U.S. Naval installations in Washington state: inland Puget Sound Region and offshore in the existing Northwest Training Range Complex and Naval Underwater Warfare Center Keyport Dabob Bay Range Complex. The objectives of the research are to improve baseline information on marine mammal status, abundance, stock structure, life history, seasonal distribution, and behavior; and assessment of potential impacts from Naval training exercises in the study areas. The LOC expires on August 1, 2021.

File No. 20346: Issued to Ann Weaver, Ph.D., Good-natured Statistics Consulting, PO Box 8732, St. Petersburg, FL 33738 on August 25, 2016 to conduct vessel-based scientific research of bottlenose dolphins to monitor abundance, distribution, and behavior associated with a bridge construction project over John's Pass, Florida and other coastal construction projects. The purpose is to monitor the effects on bottlenose dolphins associated with the construction in an important dolphin corridor at John's Pass tidal inlet, St. Petersburg, FL. The LOC expires August 31, 2021.

File No. 20377: Issued to Wendy Noke Durden, Hubbs-Sea World Research Institute, 3830 South Highway A1A #4-181, Melbourne Beach, FL 32951 on August 30, 2016 to conduct vessel-based scientific research of behavioral observations, passive acoustic recording, monitoring, photo identification, photography and video of bottlenose dolphins from the Indian River Lagoon and Jacksonville Estuarine System stock. The objective is to conduct scientific research of abundance, distribution, behavior, population dynamics and communication. The research will occur along the east coast of Florida, specifically the Indian River Lagoon and Halifax Rivers from northernmost limits of Flagler County.

File No. 18605-01: Issued to Tara M. Cox, Ph.D., Assistant Professor of Marine Science, Savannah State University, P.O. Box 20467, Savannah, GA 31404 on September 9, 2016 to add the newly recognized Central Georgia Estuarine System stock of bottlenose dolphins that occurs in the study area. The LOC authorizes close approach, photo-identification, behavioral observations, passive acoustics, and focal follows of several cetacean species within estuarine and coastal waters of Georgia and South Carolina. The purpose of the research is to continue to study dolphin-human interaction behaviors related to coastal fisheries, foraging ecology, and social and population structure of local bottlenose dolphins. The LOC expires on March 1, 2019.

File No. 20377-01: Issued to Wendy Noke Durden, Hubbs-Sea World Research Institute, 3830 South Highway A1A #4-181, Melbourne Beach, FL 32951 on September 19, 2016, to change the bottlenose dolphin stocks in the LOC to reflect accurately those stocks found in the study area. The LOC authorizes vessel-based surveys involving behavioral observations, passive acoustic recording, monitoring, photo identification, photography and video from the inland waters of the Indian River Lagoon estuary to the Intracoastal Waters of the Halifax Rivers estuary. The objective of the research is to study bottlenose dolphin abundance, distribution, behavior, population dynamics and communication. The LOC expires on September 1, 2021.

File No. 20519: Issued to Peggy Stap, Marine Life Studies, P.O. Box 884, Monterey, CA 93942 on December 28, 2016 to conduct vessel surveys, close approach, photo-identification, behavioral observations, passive acoustics, and underwater photograph/video within Monterey Bay National Marine Sanctuary. Eighteen species of cetaceans and four species of pinnipeds would be studied. The purpose of the research is to study foraging strategies and vocalizations of killer whales and investigate the abundance, distribution, movement, and frequency of occurrence of cetacean species within Monterey Bay National Marine Sanctuary. The LOC expires December 31, 2021.

File No. 19749-01: Issued to Clearwater Marine Aquarium [Responsible Party is Frank Dame], 249 Windward Passage, Clearwater, FL 33767 on March 27, 2017 to conduct vessel surveys, close approach, photo-identification, behavioral observations, of bottlenose dolphins (Tursiops truncatus) to assess their home ranges, distribution, population abundance, site fidelity, and reproductive success, in the estuarine and coastal waters of west central Florida. The amended LOC adds 52 annual takes of Atlantic spotted dolphins that are observed to co-occur with the target species (bottlenose dolphins). The LOC expires March 1, 2021.

File No. 18101-01: Issued to Pacific Whale Foundation [Principal Investigator is Greg Kaufman], 300 Ma'alaea Rd., Suite 211, Wailuku, HI 96793 on March 27, 2017. The original LOC authorized close approaches during vessel line-transect surveys for photo-identification, behavioral observation, focal follows, and underwater photography/videography of several non-Endangered Species Act (ESA) listed odontocetes in the waters offshore of Maui County, HI. The amended LOC adds annual takes of non-ESA listed humpback whales, (Megaptera novaeangliae, Hawaii Distinct Population Segment), during these surveys. Additionally, the amendment adds in-water activities (pole-mounted cameras and up to two swimmers) with humpback whales only in order to identify the sex of humpback whales. The LOC expires June 1, 2018.

File No. 21134: Issued to John H. Schacke, Ph.D., George Dolphin Ecology Program, 223 Trace Lane, Commerce, GA 30530 on May 11, 2017 to conduct vessel surveys, photo-identification, and behavioral observations of bottlenose dolphins (Central Georgia Estuarine System stock) within coastal and estuarine waters of central Georgia. The purpose of the research is to document the abundance, distribution, movement, and frequency of bottlenose dolphins within Georgia and to contribute to shared bottlenose dolphin catalogs within the southeast Atlantic region. The LOC expires May 15, 2022.

File No. 18101-02: Issued to Pacific Whale Foundation [Principal Investigator is Greg Kaufman], 300 Ma'alaea Rd., Suite 211, Wailuku, HI 96793 on March 27, 2017. The previous LOC (No. 18101-01; above) authorized close approaches during vessel line-transect surveys for photo-identification, behavioral observation, focal follows, and underwater photography/videography of several non-listed odontocetes in the waters offshore of Maui County, HI. The amended LOC adds photogrammetry as a research procedure. The LOC expires June 1, 2018.

In compliance with the National Environmental Policy Act of 1969 (42 U.S.C. 4321 et seq.), a final determination has been made that the activities are categorically excluded from the requirement to prepare an environmental assessment or environmental impact statement.

Dated: December 14, 2017.
Julia Harrison,
Chief, Permits and Conservation Division, Office of Protected Resources, National Marine Fisheries Service.

[FR Doc. 2017-27362 Filed 12-19-17; 8:45 am]

BILLING CODE 3510-22-P